COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes product(s) from the Procurement List that were furnished by nonprofit agencies employing persons who are blind or have other severe disabilities.

DATES: Date deleted from the Procurement List: January 14, 2024.

ADDRESSES: Committee for Purchase From People Who Are Blind or Severely Disabled, 355 E Street SW, Suite 325, Washington, DC 20024.

FOR FURTHER INFORMATION CONTACT: Michael R. Jurkowski, Telephone: (703) 785-6404, or email CMTEFedReg@AbilityOne.gov.

SUPPLEMENTARY INFORMATION:

Deletions

On 11/3/2023 and 11/10/2023, the Committee for Purchase From People Who Are Blind or Severely Disabled published notice of proposed deletions from the Procurement List. This notice is published pursuant to 41 U.S.C. 8503(a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) to the Government.

3. There are no known regulatory alternatives which would accomplish the objectives of the Javits-Wagner-O'Day Act (41 U.S.C. 8501-8506) in connection with the product(s) deleted from the Procurement List.

End of Certification

Accordingly, the following product(a) are deleted from the Procurement List:

Product(s)

NSN(s)—Product Name(s):

7930-01-619-1848—Protectant, Liquid, Water-Based, Vehicle Interior Surface, (4) 1-GL Container/BX

7930-01-619-1849—Protectant, Liquid, Water-Based, Vehicle Interior Surface, 5 GL

7930-01-619-1852—Detergent, Oil and Water Separating, Heavy Duty, Biodegradable, Trucks and Trailers, 5 GL

7930-01-619-1853—Detergent, Liquid, High-foaming, Car and Truck Washing, (4) 1-GL Container/BX

7930-01-619-1854—Detergent, Liquid, High-foaming, Car and Truck Washing, 5 GL

7930-01-619-1855—Liquid Solution, Truck and Trailer Wash, 5 GL

7930-01-619-1856—Detergent, Oil and Water Separating, Heavy Duty, Biodegradable, Trucks and Trailers, 55 GL

7930-01-619-1857—Cleaner/Degreaser, Heavy Duty, Biodegradable, Car and Trucks, 5 GL

7930-01-619-1858—Liquid Solution, Truck and Trailer Wash, 55 GL

7930-01-619-1859—Cleaner/Degreaser, Heavy Duty, Biodegradable, Car and Trucks, 55 GL

7930-01-619-1860—Liquid Solution, Concentrated, Vehicle, Wash and Shine, With Wax polymer, (4) 1-GL Container/BX

7930-01-619-2631—Liquid Solution, Concentrated, Vehicle, Wash and Shine, W/Wax polymer, 5 GL

Designated Source of Supply: Central Association for the Blind and Visually Impaired, Utica, NY

Contracting Activity: GSA/FSS GREATER SOUTHWEST ACQUISITI, FORT WORTH, TX

NSN(s)—Product Name(s):

7520-01-441-9130—Kit, Fingerprint

Contracting Activity: GSA/FAS ADMIN SVCS ACQUISITION BR(2, NEW YORK, NY

NSN(s)—Product Name(s):

7510-01-579-9319—Binder, Removable Slant-D Rings, 100% Recyclable, Turned Edge, Black, 3″ Capacity, Letter

7510-01-579-9325—Binder, Removable Slant-D Rings, 100% Recyclable, Turned Edge, Blue, 3″ Capacity, Letter

7510-01-579-9324—Binder, Removable Slant-D Rings, 100% Recyclable, Turned Edge, Blue, 2″ Capacity, Letter

7510-01-579-9317—Binder, Removable Slant-D Rings, 100% Recyclable, Turned Edge, Black, 2″ Capacity, Letter

Designated Source of Supply: South Texas Lighthouse for the Blind, Corpus Christi, TX

Contracting Activity: STRATEGIC ACQUISITION CENTER, FREDERICKSBURG, VA

NSN(s)—Product Name(s):

7510-01-579-9319—Binder, Removable Slant-D Rings, 100% Recyclable, Turned Edge, Black, 3″ Capacity, Letter

7510-01-579-9325—Binder, Removable Slant-D Rings, 100% Recyclable, Turned Edge, Blue, 3″ Capacity, Letter

7510-01-579-9324—Binder, Removable Slant-D Rings, 100% Recyclable, Turned Edge, Blue, 2″ Capacity, Letter

7510-01—579-9317—Binder, Removable Slant-D Rings, 100% Recyclable, Turned Edge, Black, 2″ Capacity, Letter

Designated Source of Supply: South Texas Lighthouse for the Blind, Corpus Christi, TX

Contracting Activity: GSA/FAS ADMIN SVCS ACQUISITION BR (2, NEW YORK, NY

Michael R. Jurkowski,
Acting Director, Business Operations.

[FR Doc. 2023-27577 Filed 12-14-23; 8:45 am]

BILLING CODE 6353-01-P